DEPARTMENT OF HEALTH AND HUMAN SERVICES

National Institutes of Health

Submission for OMB review; Comment Request; Parental Knowledge, Attitudes, and Behaviors Related to Pediatric Cardiovascular Health

SUMMARY: Under the provisions of Section 3507(a)(1)(D) of the Paperwork Reduction Act of 1995, the National Heart, Lung, and Blood Institute (NHLBI), the National Institutes of Health has submitted to the Office of Management and Budget (OMB) a request to review and approve the information collection listed below. This proposed information collection was previously published in the Federal Register on Wednesday, July 29, 2009, Volume 74, Number 144 and allowed 60-days for public comment. No public comments were received. The purpose of this notice is to allow an additional 30 days for public comment.

5 CFR 1320.5 (General requirements) Reporting and Recordkeeping Requirements:

Final Rule requires that the agency inform the potential persons who are to respond to the collection of information that such persons are not required to respond to the collection of information unless it displays a currently valid OMB control number. This information is required to be stated in the 30-day Federal Register Notice.

Proposed Collection: Describe the proposed information collection activity as follows. Include: Title: Parental Knowledge, Attitudes, and Behaviors Related to Pediatric Cardiovascular Health; Type of Information Collection Request: New; Need and Use of Information Collection: Coinciding with the release of the Integrated Pediatric Cardiovascular Risk Reduction Guidelines, the National Heart, Lung, and Blood Institute (NHLBI) will conduct a national public awareness campaign to help parents understand that risk for cardiovascular disease (CVD) begins in childhood, and to engage them in encouraging healthy habits in their children to promote heart health and reduce their children's CVD risk now and as they grow. Currently, little is known about parental knowledge, attitudes, and behaviors related to heart health in children. Serving as a baseline for evaluation of NHLBI's outreach activities related to the campaign, this study seeks to learn the following: (a) Parents' awareness of cardiovascular disease risk factors in children and knowledge of what to do for risk reduction, (b) parents' level of efficacy toward taking action to promote cardiovascular health and reduce risk factors, and (c) parents' behaviors related to cardiovascular health. The findings will provide valuable information that will enable NHLBI to identify the gaps in knowledge and awareness and target specific information in communications with parents. NHLBI will also be able to determine parents' efficacy related to the actions needed to promote their children's heart health, allocating resources for the campaign to provide support to overcome perceived barriers; Frequency of Response: One-time survey; Affected Public: Individuals or households; and Type of Respondents: Parents and caregivers of children ages 0-7. The annual reporting burden is as follows: Estimated Number of Respondents: 1,175; Estimated Number of Responses per Respondent: 1; Average Burden Hours Per Response: .167; and Estimated Total Annual Burden Hours Requested: 196.23. There are no Capital Costs, Operating Costs, and/or Maintenance Costs to report.

Request for Comments: Written comments and/or suggestions from the public and affected agencies should address one or more of the following points: (1) Evaluate whether the proposed collection of information is necessary for the proper performance of the function of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Amy Pianalto, National Heart, Lung, and Blood Institute, NIH, 31 Center Drive, Building 31A, Room 4A10, Bethesda, MD 20892; or call non-toll-free number 301-594-2093 or e-mail request, including your address, to pianaltoa@nhlbi.nih.gov.

Comments Due Date: Comments regarding this information collection are best assured of having their full effect if received within 30 days of the date of this publication.

Dated: October 30, 2009.
Amy Pianalto,
Technical Writer, Office of Communications and Legislative Activities, NHLBI, National Institutes of Health.

[FR Doc. E9-27688 Filed 11-17-09; 8:45 am]

BILLING CODE 4140-01-P